DEPARTMENT OF LABOR

Pension and Welfare Benefits Administration

ERISA Section 3(40) Negotiated Rulemaking Advisory Committee; Notice of Renewal

In accordance with the Federal Advisory Committee Act, the Secretary of Labor has renewed the charter for the ERISA Section 3(40) Negotiated Rulemaking Advisory Committee (Committee).

This Committee will advise the Department of Labor (Department) in connection with the Department's development of a final rule on the definition of a collectively bargained plan under section 3(40) of the Employee Retirement Income Security Act of 1974, as amended (ERISA). The Secretary of Labor has adopted this Committee's consensus recommendation to issue proposed rules for a process and criteria that would facilitate determinations by the Department, employee benefit plans and state insurance regulatory agencies as to whether a particular agreement is a collective bargaining agreement, and whether a particular plan is established or maintained under or pursuant to one or more collective bargaining agreements for purposes of section 3(40) of ERISA. This Committee will review the public comments on the Department's proposed regulations and the information that the commentors submit with their comments. It will advise the Department on the resolution of key issues raised in these comments. The final rule will assist the Department, the States and the public in distinguishing collectively bargained plans from multiple employer welfare arrangements (MEWAs), and will limit abusive insurance practices without interfering with the activities of legitimate multiemployer plans. Renewal of the Committee allows the Department to consult with the affected interests on the best way to craft a process and criteria that enhance the Department's enforcement against sham MEWAs.

The Committee will meet no less than two times over a two year period. It will continue to be composed of 10 members, with the following representation: organized labor, multiemployer plans, entertainment industry plans, Railway Labor Act plans, the Federal government, States, employers and management, insurance companies, insurance brokers, and third-party plan administrators. None of the members shall be deemed to be employees of the United States.

The Committee will continue to function solely as an advisory body and in compliance with the provisions of the Federal Advisory Committee Act.

Interested persons are invited to submit comments regarding the renewal of the ERISA Section 3(40) Negotiated Rulemaking Advisory Committee. Such comments should be addressed to: Patricia Arzuaga, Regulation Attorney, Office of the Solicitor, Plan Benefits Security Division, U.S. Department of Labor, Room N-4611, 200 Constitution Avenue, NW., Washington, DC 20210 (telephone (202) 219-4600; fax (202) 219-7346). This is not a toll-free number.

Signed at Washington, DC this 23rd day of August, 2000.
Alexis M. Herman,
Secretary of Labor.

[FR Doc. 00-22023 Filed 8-28-00; 8:45 am]

BILLING CODE 4510-29-M